DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of four newly-designated entities and four newly-designated individuals whose property and interests in property are blocked pursuant to Executive Order 13382 of June 28, 2005, “Blocking Property of Weapons of Mass Destruction Proliferators and Their Supporters.”

DATES: The designation by the Director of OFAC of the four entities and four individuals identified in this notice pursuant to Executive Order 13382 is effective on July 8, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On July 8, 2008, the Director of OFAC, in consultation with the Departments of State, Justice, and other relevant agencies, designated four entities and four individuals whose property and interests in property are blocked pursuant to Executive Order 13382.

The list of additional designees is as follows:

Entities

1.7TH OF TIR (a.k.a. 7TH OF TIR COMPLEX; a.k.a. 7TH OF TIR INDUSTRIAL COMPLEX; a.k.a. 7TH OF TIR INDUSTRIES; a.k.a. 7TH OF TIR INDUSTRIES OF ISFAHAN/ESFAHAN; a.k.a. MOJTAMAE SANATE HAFTOME TIR; a.k.a. SANAYE HAFTOME TIR; a.k.a. SEVENTH OF TIR), Mobarakeh Road Km 45, Isfahan, Iran; P.O. Box 81465-478, Isfahan, Iran.

2.AMMUNITION AND METALLURGY INDUSTRIES GROUP (a.k.a. AMIG; a.k.a. AMMUNITION AND METALLURGY INDUSTRY GROUP; a.k.a. AMMUNITION INDUSTRIES GROUP; a.k.a. SANAYE MOHEMATSAZI), P.O. Box 16765-1835, Pasdaran Street, Tehran, Iran; Department 145-42, P.O. Box 16765-128, Moghan Avenue, Pasdaran Street, Tehran, Iran.

3.SHAHID SATTARI INDUSTRIES, Southeast Tehran, Iran.

4.PARCHIN CHEMICAL INDUSTRIES (a.k.a. PARA CHEMICAL INDUSTRIES; a.k.a. PARCHIN CHEMICAL FACTORIES; a.k.a. PARCHIN CHEMICAL INDUSTRIES GROUP; a.k.a. PCF; a.k.a. PCI), 2nd Floor, Sanam Bldg., 3rd Floor Sanam Bldg., P.O. Box 16765-358, Nobonyad Square, Tehran, Iran; Khavaran Road Km 35, Tehran, Iran.

Individuals

1.AGHA-JANI, Dawood (a.k.a. AGHAJANI, Davood; a.k.a. AGHAJANI, Davoud; a.k.a. AGHAJANI, Davud; a.k.a. AGHAJANI, Kalkhoran Davood; a.k.a. AQAJANI KHAMENA, Da'ud); DOB 23 Apr 1957; POB Ardebil, Iran; nationality Iran; Passport I5824769.

2.HOJATI, Mohsen, c/o Fajr Industries Group, Tehran, Iran; DOB: 28 Sep 1955; POB: Najafabad, Iran; Passport Number: G4506013 (Iran); nationality: Iran.

3.KETABACHI, Mehrdada Akhlaghi (a.k.a. KETABCHI, Merhdada Akhlaghi), c/o SBIG, Tehran, Iran; DOB 10 Sep 1958; nationality Iran; Passport A0030940 (Iran).

4.MALEKI, Naser (a.k.a. MALEKI, Nasser) c/o SHIG, Tehran, Iran; DOB: circa 1960; Passport Number: A0003039; Nationality: Iranian.

Dated: July 8, 2008.
Adam J. Szubin,
Director, Office of Foreign Assets Control.

[FR Doc. E8-15918 Filed 7-11-08; 8:45 am]

BILLING CODE 4811-45-P